DEPARTMENT OF JUSTICE

Antitrust Division

Notice Pursuant to the National Cooperative Research and Production Act of 1993—PXI Systems Alliance, Inc.

Notice is hereby given that, on May 30, 2007, pursuant to section 6(a) of the National Cooperative Research and Production Act of 1993, 15 U.S.C. 4301 et seq. (“the Act”), PXI Systems Alliance, Inc. has filed written notifications simultaneously with the Attorney General and the Federal Trade Commission disclosing changes in its membership. The notifications were filed for the purpose of extending the Act's provisions limiting the recovery of antitrust plaintiffs to actual damages under specified circumstances. specifically, Agilent, Santa Rosa, CA; and Phase Matrix, San Jose, CA have been added as parties to this venture. Also, Chroma Systems Solutions, Irvine, CA; PXIT, Inc., Lexington, MA; and Acqiris, Monroe, NY have withdrawn as parties to this venture. No other changes have been made in either the membership or planned activity of the group research project. Membership in this group research project remains open, and PXI Systems Alliance, Inc. intends to file additional written notifications disclosing all changes in membership.

On November 22, 2000, PXI Systems Alliance, Inc. filed its original notification pursuant to section 6(a) of the Act. The Department of Justice published a notice in the Federal Register pursuant to section 6(b) of the Act on March 8, 2001 (66 FR 13971).

The last notification was filed with the Department on March 8, 2007. A notice was published in the Federal Register pursuant to section 6(b) of the Act on April 9, 2007 (72 FR 17583).

Patricia A. Brink,
Deputy Director of Operations, Antitrust Division.

[FR Doc. 07-3417 Filed 07-12-07; 8:45 am]

BILLING CODE 4410-11-M